DEPARTMENT OF COMMERCE

International Trade Administration

[A-583-840]

Notice of Final Determination of Sales at Not Less Than Fair Value: Bottle-Grade Polyethylene Terephthalate (PET) Resin From Taiwan

AGENCY: Import Administration, International Trade Administration, Department of Commerce.

Final Determination: We determine that PET Resin from Taiwan is not being, nor is likely to be, sold in the United States at less than fair value, as provided in section 735 of the Tariff Act of 1930, as amended (the Act).

DATES: Effective Date: March 21, 2005.

FOR FURTHER INFORMATION CONTACT: Daniel O'Brien or Ashleigh Batton, AD/CVD Operations, Office 1, Import Administration, International Trade Administration, U.S. Department of Commerce, 14th Street and Constitution Avenue, NW., Washington, DC 20230; telephone (202) 482-1376 and (202) 482-6309, respectively.

SUPPLEMENTARY INFORMATION:

Background

Since the publication of the preliminary results of this review (See Notice of Preliminary Determination of Sales at Less Than Fair Value: Bottle-Grade Polyethylene Terephthalate (PET) Resin from Taiwan, 69 FR 62868, October 28, 2004. (Preliminary Determination), in which the Department announced an extension of the time limit for the final determination in the antidumping duty investigation to no later than March 14, 2005, in accordance with section 735(A)(2) of the Act, the following events have occurred:

In November 2004, we verified the questionnaire response of Far Eastern Textile, Ltd. (Far Eastern). The cost and sales verification reports were issued on January 4, 2005, and January 18, 2005, respectively. See Memorandum from Christopher Zimpo, Accountant, to Neal M. Halper, Director, Office of Accounting, Re: Verification of the Cost of Production and Constructed Value Data Submitted by Far Eastern Textile in the Investigation of PET Resin from Taiwan, dated January 18, 2005, and Memorandum from Ashleigh Batton, International Trade Compliance Analyst, to Susan Kuhbach, Director, Office 1, Re: Verification of the Sales Response of Far Eastern Textile in the Investigation of PET Resin from Taiwan, dated January 4, 2005. These reports are on file in the Central Records Unit, Room B-099 of the main Department building (CRU).

On January 26, 2005, we received case briefs from the United States PET Resin Producers Coalition (the petitioner), and Far Eastern.

On January 31, 2005, we received rebuttal briefs from the petitioner and Far Eastern.

Scope of Investigation

The merchandise covered by this investigation is polyethylene terephthalate (PET) bottle-grade resin, defined as having an intrinsic viscosity of at least .68 deciliters per gram but not more than .86 deciliters per gram. The scope includes bottle-grade PET resin that contains various additives introduced in the manufacturing process. The scope does not include post-consumer recycle (PCR) or post-industrial recycle (PIR) PET resin; however, included in the scope is any bottle-grade PET resin blend of virgin PET bottle-grade resin and recycled PET (RPET). Waste and scrap PET are outside the scope of the investigation. Fiber-grade PET resin, which has an intrinsic viscosity of less than .68 deciliters per gram, is also outside the scope of the investigation.

The merchandise subject to this investigation is properly classified under subheading 3907.60.0010 of the Harmonized Tariff Schedule of the United States (HTSUS); however, merchandise classified under HTSUS subheading 3907.60.0050 that otherwise meets the written description of the scope is also subject to this investigation. Although the HTSUS subheadings are provided for convenience and customs purposes, the written description of the merchandise under investigation is dispositive.

Period of Investigation

The period of investigation (POI) is January 1, 2003, through December 31, 2003. This period corresponds to the four most recent fiscal quarters prior to the filing of the petition on March 24, 2004.

Verification

As provided in section 782(i) of the Act, we conducted verification of the sales and cost information submitted by Far Eastern. We used standard verification procedures, including examination of the relevant sales, cost, and financial records.

Analysis of Comments Received

All issues raised in the case and rebuttal briefs by parties to this review are addressed in the Issues and Decision Memorandum from Barbara E. Tillman, Acting Deputy Assistant Secretary for Import Administration, to Joseph A. Spetrini, Acting Assistant Secretary for Import Administration, dated March 14, 2005 (Decision Memorandum), which is hereby adopted by this notice. Attached to this notice as an appendix is a list of the issues which parties have raised and to which we have responded in the Decision Memorandum. Parties can find a complete discussion of all issues raised in this review and the corresponding recommendations in this public memorandum which is on file in the Department's CRU. In addition, a complete version of the Decision Memorandum can be accessed directly on the Web at http://ia.ita.doc.gov/frn/. The paper copy and electronic version of the Decision Memorandum are identical in content.

Changes Since the Preliminary Determination

Based on our findings at verification and our analysis of comments received, we have made adjustments to the preliminary determination calculation methodologies in calculating the final dumping margin for Far Eastern. These adjustments are discussed in the Decision Memorandum.

Suspension of Liquidation

Pursuant to section 733(b)(3) of the Act, because the estimated weighted-average dumping margin ¹ for the examined company is de minimis, we are not directing CBP to suspend liquidation of entries of PET resin from Taiwan. The weighted-average dumping margins are as follows:

¹ Section 735(c)(5)(B) states that, if the estimated weighted average dumping margins established for all exporters and producers individually investigated are zero or de minimis margins, or are determined entirely under section 776, the administering authority may use any reasonable method to establish the estimated all-others rate for exporters and producers not individually investigated, including averaging the estimated weighted average dumping margins determined for the exporters and producers individually investigated. In this case we have used the one calculated margin as the all others rate.

Exporter/manufacturer | Weighted-average margin percentage
Far Eastern | 0.10
All Others | 0.10

ITC Notification

In accordance with section 735(d) of the Act, we have notified the International Trade Commission (ITC) of our determination.

This notice also serves as the only reminder to parties subject to the administrative protective order (APO) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This determination is issued and published in accordance with sections 735(d) and 777(i)(1) of the Act.

Dated: March 14, 2005.
Joseph A. Spetrini,
Acting Assistant Secretary for Import Administration.

Appendix I—List of Comments in the Issues and Decision Memorandum

General Comments

Comment 1: Re-Allocation of Additive Costs

Comment 2: Unreported U.S. Sale

Comment 3: Home Market Rebates

Comment 4: Domestic Inland Freight

Comment 5: Indirect Selling Expense

Comment 6: U.S. Packing Expenses

Comment 7: General and Administrative and Financial Expense Ratios

Comment 8: Major Input Valuation

Comment 9: Nitrogen Gas From an Affiliate

Comment 10: Sales Reconciliation

[FR Doc. E5-1220 Filed 3-18-05; 8:45 am]

BILLING CODE 3510-DS-P